DEPARTMENT OF TRANSPORTATION

Federal Aviation Administration

14 CFR Part 39

[Docket No. FAA-2006-24948; Directorate Identifier 2005-NM-030-AD]

RIN 2120-AA64

Airworthiness Directives; Boeing Model 707-100 Long Body, -100B Long Body, -100B Short Body, -E3F, -300, -300B, and -300C Series Airplanes; Model 727-100 and -200 Series Airplanes; Model 737-200, -200C, -300, -400, and -500 Series Airplanes; Model 747-100B, 747-200B, 747-200C, 747-200F, 747-300, 747-400, 747-400D, 747SR, and 747SP Series Airplanes; Model 757-200 and 757-200PF Series Airplanes; and Model 767-200 and -300 Series Airplanes; Equipped With Observer or Attendant Seats

AGENCY: Federal Aviation Administration (FAA), Department of Transportation (DOT).

ACTION: Notice of proposed rulemaking (NPRM).

SUMMARY: The FAA proposes to supersede an existing airworthiness directive (AD) that applies to certain Boeing airplanes. The existing AD currently requires inspection of the attachment of the shoulder restraint harness to the mounting bracket on certain observer and attendant seats to determine if a C-clip is used in the attachment, and corrective action, if necessary. This proposed AD would remove certain airplanes from the applicability and add others. This proposed AD results from the determination that some airplanes had been inadvertently included in or excluded from the applicability of the existing AD and that certain additional new airplanes are now subject to the identified unsafe condition. We are proposing this AD to prevent detachment of the shoulder restraint harness of the attendant or observer seat from its mounting bracket during service, which could result in injury to the occupant of the seat.

DATES: We must receive comments on this proposed AD by July 24, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

FOR FURTHER INFORMATION CONTACT: Patrick Gillespie, Aerospace Engineer, Cabin Safety and Environmental Systems Branch, ANM-150S, FAA, Seattle Aircraft Certification Office, 1601 Lind Avenue, SW., Renton, Washington 98055-4056; telephone (425) 917-6429; fax (425) 917-6590.

SUPPLEMENTARY INFORMATION:

Comments Invited

We invite you to submit any relevant written data, views, or arguments regarding this proposed AD. Send your comments to an address listed in the ADDRESSES section. Include the docket number “Docket No. FAA-2006-24948; Directorate Identifier 2005-NM-030-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On November 16, 2001, we issued AD 2001-24-02, amendment 39-12518 (66 FR 59681, November 30, 2001). That AD applies to certain Boeing Model 707-100 long body, -100B long body, -100B short body, -E3A, -300, -300B, and -300C series airplanes; Model 727-100 and -200 series airplanes; Model 737-200, -200C, -300, -400, and -500 series airplanes; Model 747-100B, 747-200B, 747-200C, 747-200F, 747-300, 747-400, 747-400D, 747SR, and 747SP series airplanes; Model 757-200 and 757-200PF series airplanes; and Model 767-200 and -300 series airplanes.

AD 2001-24-02 requires inspecting the attachment of the shoulder restraint harness to the mounting bracket on certain observer and attendant seats to determine if a C-clip is used in the attachment, and corrective action, if necessary. That AD resulted from reports of the shoulder restraint harness of the attendant and observer seat detaching from the mounting bracket. We issued that AD to prevent injury to the occupant of the seat.

Actions Since Existing AD Was Issued

Since we issued AD 2001-24-02, we have learned that the applicability must be revised to add certain airplanes and remove others.

Relevant Service Information

AD 2001-24-02 refers to Boeing Service Bulletins 727-25-0295, Revision 1, dated May 17, 2001, and 737-25-1412, Revision 1, dated May 17, 2001, as the appropriate sources of service information for affected Model 727 and 737 series airplanes. Boeing has since issued Service Bulletin 727-25-0295, Revision 2, dated February 6, 2003, to clarify Figure 1 in the service bulletin. Boeing has also issued Special Attention Service Bulletin 737-25-1412, Revision 2, dated September 18, 2003, and Revision 3, dated December 2, 2004. Revision 2 of the Special Attention service bulletin adds airplanes PW231 through PW252 inclusive; Revision 3 removes airplanes PW001 through PW054 inclusive and PW091 through PW094 inclusive; those airplanes were inadvertently excluded or included in previous versions of the service bulletin. The service bulletin procedures are unchanged from those described in Revision 1.

Accomplishing the actions specified in the service information is intended to adequately address the unsafe condition.

FAA's Determination and Requirements of the Proposed AD

We have evaluated all pertinent information and identified an unsafe condition that is likely to develop on other airplanes of the same type design. For this reason, we are proposing this AD, which would supersede AD 2001-24-02 and would retain the requirements of the existing AD. This proposed AD would also revise the applicability to remove certain airplanes and add others.

Changes to Existing AD

We have revised the applicability of this AD to also identify model designations as published in the most recent type certificate data sheet for the affected models.

We have revised this action to clarify the appropriate procedure for notifying the principal inspector before using any approved AMOC on any airplane to which the AMOC applies.

Costs of Compliance

Since we issued AD 2001-24-02, we have increased the labor rate used in the cost estimate calculations from $60 to $80 per work hour. However, with respect to the total cost impact for the fleet, this increase in the hourly labor rate would be offset by the decrease in the number of affected airplanes in this proposed AD.

The following table provides the estimated costs for U.S. operators to comply with this proposed AD.

Estimated Costs
Base model | Number of work hours (@¼-work hour/seat) | Hourly labor rate | Total cost per airplane | Number of airplanes/U.S. registry | Total fleet cost | Number of airplanes/worldwide
707 | 1 | $80 | $80 | 21 | $1,680 | 250
727 | 1 | 80 | 80 | 881 | 70,480 | 1,986
737 | 2 | 80 | 160 | 459 | 73,440 | 885
747 | 5 | 80 | 400 | 83 | 33,200 | 554
757 | 2 | 80 | 160 | 257 | 41,120 | 262
767 | 3 | 80 | 240 | 207 | 49,680 | 596

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12518 (66 FR 59681, November 30, 2001) and adding the following new airworthiness directive (AD):

Boeing: Docket No. FAA-2006-24948; Directorate Identifier 2005-NM-030-AD.

Comments Due Date

(a) The FAA must receive comments on this AD action by July 24, 2006.

Affected ADs

(b) This AD supersedes AD 2001-24-02.

Applicability

(c) This AD applies to airplanes, certificated in any category, identified in Table 1 of this AD; equipped with any observer or attendant seat.

Table 1.—Applicability
Models and series | As identified in Boeing service bulletin—
Model 707-100 long body, 707-100B long body, 707-100B short body, 707-E3F, 707-300, 707-300B, and 707-300C series airplanes | 3499, Revision 1, dated May 17, 2001.
Model 727-100 and 727-200 series airplanes | 727-25-0295, Revision 2, dated February 6, 2003.
Model 737-200, 737-200C, 737-300, 737-400, and 737-500 series airplanes | 737-25-1412, Revision 3, dated December 2, 2004.
Model 747-100B, 747-200B, 747-200C, 747-200F, 747-300, 747-400, 747-400D, 747SR, and 747SP series airplanes | 747-25-3244, Revision 4, dated June 26, 2003.
Model 757-200 and 757-200PF series airplanes | 757-25-0223, Revision 1, dated May 17, 2001.
Model 767-200 and 767-300 series airplanes | 767-25-0288, Revision 3, dated August 1, 2002.

Unsafe Condition

(d) This AD results from reports of the shoulder restraint harness of the attendant or observer seat detaching from the mounting bracket. We are issuing this AD to prevent injury to the occupant of the seat.

Compliance

(e) You are responsible for having the actions required by this AD performed within the compliance times specified, unless the actions have already been done.

Inspection and Corrective Action

(f) Except for the airplanes identified in paragraph (g) of this AD: Within 36 months after January 4, 2002 (the effective date of AD 2001-24-02), do a one-time general visual inspection of the attachment of the shoulder restraint harness of each observer or attendant seat to determine if a C-clip is used in the attachment. Do the inspection according to the applicable service bulletin identified in Table 2 of this AD. If the shoulder harness is looped through the bracket and attached to itself with a C-clip, do paragraph (f)(1) or (f)(2) of this AD. If the inspection required by paragraph (f) of this AD is done after the effective date of this AD, paragraph (f)(1) or (f)(2), if required, must be done before further flight after the inspection required by this paragraph.

(1) Remove and discard the C-clip, and reattach the shoulder harness to the mounting bracket, according to the service bulletin. Accomplishment of these actions before the effective date of this AD according to the applicable service bulletin version identified in Table 3 of this AD is also acceptable for compliance with the requirements of paragraph (f)(1) of this AD.

(2) Install a second C-clip with the clip's opening positioned in the opposite direction of the opening of the existing C-clip, according to the optional method described in Steps 19 and 20 of Figure 1 or 2 of the service bulletin.

(g) For Model 737-200, -200C, -300, -400, and -500 series airplanes with variable numbers PW231 through PW252 inclusive: Within 36 months after the effective date of this AD, do a one-time general visual inspection of the attachment of the shoulder restraint harness of each observer or attendant seat to determine if a C-clip is used in the attachment. Do the inspection according to the applicable service bulletin identified in Table 2 of this AD. If the shoulder harness is looped through the bracket and attached to itself with a C-clip, do paragraph (f)(1) or (f)(2) of this AD before further flight.

Table 2.—Service Bulletins
Model | Boeing service bulletin | Required version
707-100 long body, -100B long body, -100B short body, -E3F, -300, -300B, and -300C | 3499 | Revision 1, dated May 17, 2001.
727-100 and -200 | 727-25-0295 | Revision 1, dated May 17, 2001; or Revision 2, dated February 6, 2003.
737-200, -200C, -300, -400, and -500 | 737-25-1412 | Revision 1, dated May 17, 2001; or Revision 2, dated September 18, 2003; or Revision 3, dated December 2, 2004.
747-100B, 747-200B, 747-200C, 747-200F, 747-300, 747-400, 747-400D, 747SR, and 747SP | 747-25-3244 | Revision 1, dated May 17, 2001; or Revision 2, dated April 25, 2002; or Revision 3, dated August 1, 2002 or Revision 4, dated June 26, 2003.
757-200 and 757-200PF | 757-25-0223 | Revision 1, dated May 17, 2001.
767-200 and -300 | 767-25-0288 | Revision 1, dated May 17, 2001; or Revision 2, dated April 25, 2002; or Revision 3, dated August 1, 2002.

Table 3.—Acceptable Service Bulletin Revisions
Model | Boeing service bulletin | Date
707-100 long body, -100B long body, -100B short body, E3F, -300, -300B, and -300C series airplanes | 3499 | April 27, 2000.
727-100 and -200 series airplanes | 727-25-0295 | April 27, 2000.
737-200, -200C, -300, -400, and -500 series airplanes | 737-25-1412 | April 27, 2000.
747-100B, 747-200B, 747-200C, 747-200F, 747-300, 747-400, 747-400D, 747SR, and 747SP | 747-25-3244 | April 27, 2000.
757-200 and 757-200PF series airplanes | 757-25-0223 | April 27, 2000.
767-200 and -300 series airplanes | 767-25-0288 | April 27, 2000.

Spares

(h) Except for airplanes identified in paragraph (g) of this AD: As of January 4, 2002, do not attach the shoulder restraint harness of an observer or attendant seat on any airplane to the mounting bracket using a C-clip, unless the requirements of paragraph (f)(2) of this AD are done.

(i) For airplanes identified in paragraph (g) of this AD: As of the effective date of this AD, do not attach the shoulder restraint harness of an observer or attendant seat on any airplane to the mounting bracket using a C-clip, unless the requirements of paragraph (f)(2) of this AD are done.

Alternative Methods of Compliance (AMOCs)

(j)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on May 30, 2006.
Jeffrey E. Duven,
Acting Manager, Transport Airplane Directorate, Aircraft Certification Service.

[FR Doc. E6-8901 Filed 6-7-06; 8:45 am]

BILLING CODE 4910-13-P